DEPARTMENT OF HEALTH AND HUMAN SERVICES

National Institutes of Health

Proposed Collection; Comment Request; Request for Generic Clearance To Collect Customer Survey Data Pertaining to NIH Internet Sites

SUMMARY: In compliance with the requirement of Section 3506(c)(2)(A) of the Paperwork Reduction Act of 1995 for opportunity for public comment on proposed data collection projects, the National Institutes of Health (NIH) will publish periodic summaries of proposed projects to be submitted to the Office of Management and Budget (OMB) for review and approval.

Proposed Collection

Title: Request for Generic Clearance to Collect Customer Survey Data Pertaining to NIH Internet Sites. Type of Information Collection Request: NEW. Need and Use of Information Collection: Executive Order 12862 directs agencies that provide significant services directly to the public to survey customers to determine the kind and quality of services they want and their level of satisfaction with existing services. With this submission, the NIH, Office of Communications and Public Liaison, seeks to obtain OMB's generic approval to conduct customer satisfaction surveys. Since the late 1980's, the NIH has seized the opportunity to disseminate information and materials via the Internet. Today, raid technological changes of the WWW warrant on-going constituent and resource analysis. With survey information, the NIH is enabled to serve, and respond to, the ever-changing demand by the public. The “public” includes individuals (such as patients, educators, students, etc.) and interested communities (such as national or local organizations/institutions) and business. Survey information will augment current Web content, delivery, and design research which is used to understand the Web user, and more specifically, the NIH user community. Primary objectives are to (1) classify NIH Internet users; (2) summarize and better understand customer needs; and (3) quantify the effectiveness/efficiency of current tools and delivery. Overall, the Institutes, Centers, and Offices of the NIH will use the survey results to identify strengths and weaknesses in current Internet strategies. Findings will help to (1) understand user community and how to better serve Internet users; (2) discover areas requiring improvement in either content or delivery; (3) realize how to align Web offerings with identified user need(s); and (4) explore methods to offer and deliver information with efficacy and equity. Frequency of Response: Annual [As needed on an on-going and, possibly, concurrent basis (by Institute, Center, or Office)]. Affected Public: Users of the Internet. Primarily, this is an individual at their place(s) of access including, but not limited to, home or/and work environments. Type of Respondents: Public users of the NIH Internet site, www.nih.gov, which may include organizations, medical researchers, physicians and other health care providers, librarians, students, as well as individuals of the general public. Estimated Number of Respondents: 104,000. Number of Respondents Per Respondent: 1. Average Burden Hours Per Response: 0.084. Burden Hours Requested: 8,684. Total annualized cost to respondents is estimated at $116,105. There are also no capital costs, operating costs and/or maintenance costs to report.

Survey Title: Web Customer Satisfaction Survey—Annual Reporting Burden*
[Web-based; Required for Federal Register requests under PRA, Paperwork Reduction Act.]
Survey area | Number of respondents | Frequency of response | Avg. Burden per response (hours) | Burden hours
NIH Organization-wide (1 entity) | 4000 |  |  | 334
Overall customer satisfaction | 2000 | 1 | 0.1002 | 200
Specific indicator: Top-level/Entry pages | 1000 | 1 | 0.0668 | 67
Specific indicator: Tools and initiatives | 1000 | 1 | 0.0668 | 67
Individual Institute/Office (25 entities) | 100000 |  |  | 8350
Overall customer satifaction | 50000 | 1 | 0.1002 | 5010
Specific indicator: Top-level/Entry pages | 25000 | 1 | 0.0668 | 1670
Spedific indicator: Tools and initiatives | 25000 | 1 | 0.0668 | 1670
Total | 104000 |  | 0.084 | 8684
* Survey research firm, MediaMetrics, indicated 1,264,000 unique visitors to NIH sites in Dec, 1999. If fully implemented, an average month would survey 8,600 users (less than 0.007 of total average unique visitors to NIH sites).

Request for Comments

Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

FOR FURTHER INFORMATION CONTACT: To request additional information on the proposed collection of information contact: Dennis Rodrigues, NIH Office of Communications and Public Liaison, 9000 Rockville Pike, Bldg. 31, Rm. 2B03, Bethesda, Maryland 20892-2094, or call non toll-free at (301) 435-2932. You may also e-mail your request to dr3p@nih.gov.

Comments Due Date: Comments regarding this information collection are best assured of having their full effect if received on or before May 5, 2000.

Dated: February 23, 2000.
Anne Thomas,
Assoc. Director, Office of Communications and Public Liaison National Institutes of Health.

[FR Doc. 00-5279 Filed 3-3-00; 8:45 am]

BILLING CODE 4140-01-M